COMMISSION ON CIVIL RIGHTS

Sunshine Act Notice

AGENCY: United States Commission on Civil Rights.

ACTION: Notice of meeting.

Date and Time: Friday, October 30, 2009; 11:30 a.m. EDT.

Place: Via Teleconference, Public Dial In—1-800-597-7623, Conference ID # 36220517.

Meeting Agenda

This meeting is open to the public.

I. Approval of Agenda.

II. Approval of Minutes of September 3, September 11, September 24, October 8 and October 16 Meetings.

III. Management and Operations.

• Approval of Calendar of 2010 Commission Meetings.

IV. Program Planning.

• Update on Proposed Hearings for FY 2010 Enforcement Report.

• Update on FY 2010 Project on Sex Discrimination in Higher Education Admissions.

V. Adjourn.

Contact Person for Further Information: Lenore Ostrowsky, Acting Chief, Public Affairs Unit, (202) 376-8582. TDD: (202) 376-8116.

Persons with a disability requiring special services, such as an interpreter for the hearing impaired, should contact Pamela Dunston at least seven days prior to the meeting at 202-376-8105. TDD: (202) 376-8116.

Dated: October 20, 2009.
David Blackwood,
General Counsel.

[FR Doc. E9-25574 Filed 10-20-09; 4:15 pm]

BILLING CODE 6335-01-P